DEPARTMENT OF COMMERCE

National Oceanic and Atmospheric Administration

[RTID 0648-XC956]

Fisheries of the Exclusive Economic Zone Off Alaska; Cook Inlet Salmon; Public Hearing

AGENCY: National Marine Fisheries Service (NMFS), National Oceanic and Atmospheric Administration (NOAA), Commerce.

ACTION: Notice; public hearing.

SUMMARY: The National Marine Fisheries Service (NMFS) will hold a public hearing via webinar regarding an amendment to the Fishery Management Plan for the Salmon Fisheries in the Exclusive Economic Zone (EEZ) Off Alaska (Salmon FMP). This FMP amendment would establish Federal management for the salmon fisheries in the Federal (EEZ) waters of upper Cook Inlet.

DATES: The public hearing will take place via webinar on Thursday, May 18, 2023, starting at 5 p.m. Alaska Daylight Time (AKDT) and will conclude no later than 8 p.m. AKDT. NMFS may close the hearing 15 minutes after the conclusion of public testimony and after responding to any clarifying questions from hearing participants. Written public comments must be received by 5 p.m. AKDT Thursday, May 25, 2023.

ADDRESSES: The meeting will be held virtually rather than at a physical location. The link to the virtual public meeting is: https://meet.google.com/bgc-tjpu-qgt. A phone connection is also available by calling 1 731-393-1334 and entering the following pin number: 300 304 724#.

You may submit written comments regarding salmon fisheries in the upper Cook Inlet EEZ identified by Docket ID NOAA-NMFS-2023-0065 by either of the following methods:

• Electronic Submission: Submit all electronic comments via the Federal eRulemaking Portal. Go to https://www.regulations.gov, search for the Docket ID indicated above, click the “Comment Now!” or “Comment” icon, complete the required fields, and enter or attach your comments.

• Mail: Submit written comments to Gretchen Harrington, Assistant Regional Administrator for Sustainable Fisheries, Alaska Region NMFS, P.O. Box 21668, Juneau, AK 99082-1668.

Instructions: NMFS may not consider comments sent by any other method, to any other address or individual, or received after the end of the comment period. All comments received are a part of the public record and will generally be posted for public viewing on https://www.regulations.gov without change. All personal identifying information (e.g., name, address), confidential business information, or otherwise sensitive information submitted voluntarily by the sender will be publicly accessible. NMFS will accept anonymous comments (enter“N/A” in the required fields if you wish to remain anonymous).

FOR FURTHER INFORMATION CONTACT: Doug Duncan, doug.duncan@noaa.gov, 907-586-7425, or Amy Hadfield, amy.hadfield@noaa.gov, 907-586-7376.

SUPPLEMENTARY INFORMATION: NMFS will hold a public hearing on May 18, 2023, to receive input from interested persons on the development of an amendment to the Salmon FMP and implementing regulations. Written and oral comments received at the public hearing will be taken into consideration by NMFS when preparing the amendment and implementing regulations.

As a result of a 2016 Ninth Circuit ruling and the 2022 summary judgment opinion of the Alaska District Court in UCIDA, et al. v. NMFS, NMFS must implement an amendment to the Salmon FMP by May 1, 2024 to federally manage the salmon fisheries that occur in the exclusive economic zone (EEZ) waters of upper Cook Inlet, consistent with Magnuson-Stevens Fishery Conservation and Management Act (MSA) requirements.

At its April 2023 meeting, the North Pacific Fishery Management Council (Council) considered amending the Salmon FMP to manage the salmon fishery in the Cook Inlet EEZ, but chose not to take action to recommend an FMP amendment. The analysis prepared for the proposed FMP amendment, NMFS's motion for Alternative 3, and additional information and public documents are available on the Council's meeting agenda under item “C1 Cook Inlet Salmon FMP Amendment—Final Action, Enforcement Committee Report”, available at https://meetings.npfmc.org/Meeting/Details/2983. Absent a Council recommendation, NMFS must prepare an FMP amendment and propose implementing regulations pursuant to MSA section 304(c) to meet a court deadline. After receiving public input, NMFS will choose from among the Federal management options included under Alternative 3 in the analysis prepared for the Council.

NMFS staff will provide a brief opening statement before accepting public testimony for the record. The hearing will be recorded for the purpose of preparing transcripts of oral comments received. Attendees will be asked to identify themselves before joining the hearing. After joining the webinar, participants will be automatically muted. During the public testimony portion of the hearing, to indicate you would like to offer a comment press the “raise hand” icon, or if connected by phone, respond when asked. When it is your turn to offer your comment, the moderator will recognize and unmute you. Commenters will be asked to provide their full name and the identity of any organization on whose behalf they may be speaking. In the event that attendance at the public hearings is large, the time allotted for each commenter may be limited.

Anyone wishing to make an oral statement at the public hearing is encouraged to also submit a written copy of their statement to NMFS during the comment period by either of the methods identified above (see ADDRESSES and DATES). There are no limits on the length of written comments. Written statements and supporting data and information submitted during the comment period will be considered with the same weight as oral statements provided during the public hearings.

The schedule is as follows: Thursday, May 18, 2023, Webinar—starting at 5 p.m. AKDT and concluding no later than 8 p.m. AKDT. You may join the public virtual meeting from a computer, tablet, or smartphone by entering the following web address: https://meet.google.com/bgc-tjpu-qgt and selecting “Join now.” Participants may also connect via phone by calling 1 731-393-1334 and entering the following pin number when prompted: 300 304 724#.

After the public hearing, NMFS will develop an FMP amendment and implementing regulation in the following months. NMFS will then publish a notice in the Federal Register that the FMP amendment is available for a 60-day public comment period, as required by MSA 304(c)(4)(B). At the same time, NMFS will publish proposed regulations in the Federal Register for a 60-day public comment period, consistent with MSA 304(c)(6). The Council will be invited to submit comments and recommendations on the FMP amendment and proposed regulations during the public comment periods.

Special Accommodations

Requests for sign language interpretation or other auxiliary aids should be directed to Doug Duncan, doug.duncan@noaa.gov, 907-586-7425, or Amy Hadfield, amy.hadfield@noaa.gov, 907-586-7376 at least 5 working days prior to the meeting date.

Dated: April 21, 2023.
Kelly Denit,
Director, Office of Sustainable Fisheries, National Marine Fisheries Service.

[FR Doc. 2023-08794 Filed 4-25-23; 8:45 am]

BILLING CODE 3510-22-P